DEPARTMENT OF HOMELAND SECURITY

[Docket No. DHS-2014-0007]

Information Collection Request; Critical Infrastructure Private Sector Clearance Program

AGENCY: National Protection and Programs Directorate, DHS.

ACTION: 60-day notice and request for comments; Revision of a currently approved collection: 1670-0013.

SUMMARY: The Department of Homeland Security (DHS), National Protection and Programs Directorate (NPPD), Office of Infrastructure Protection (IP) will submit the following Information Collection Request to the Office of Management and Budget (OMB) for review and clearance in accordance with the Paperwork Reduction Act of 1995 (Pub. L. 104-13, 44 U.S.C. Chapter 35).

DATES: Comments are encouraged and will be accepted until November 24, 2014. This process is conducted in accordance with 5 CFR 1320.1.

ADDRESSES: Written comments and questions about this Information Collection Request should be forwarded to DHS/NPPD/IP/Cheryl Fenoli, 245 Murray Lane SW., Mail Stop 0607, Arlington, VA 20598-0609. Emailed requests should go to Cheryl Fenoli, Cheryl.Fenoli@hq.dhs.gov. Written comments should reach the contact person listed no later than November 24, 2014. Comments must be identified by “DHS-2014-0007”and may be submitted by one of the following methods:

• Federal eRulemaking Portal: http://www.regulations.gov .

• Email: Include the docket number in the subject line of the message.

Instructions: All submissions received must include the words “Department of Homeland Security” and the docket number for this action. Comments received will be posted without alteration at http://www.regulations.gov, including any personal information provided.

SUPPLEMENTARY INFORMATION: The Critical Infrastructure Private Sector Clearance Program (PSCP) sponsors clearances for private sector partners who are responsible for critical infrastructure protection, in accordance with Executive Order 13549. The PSCP requires individuals to complete a clearance request form that initiates the clearance process. Sector Specific Agencies (SSA), IP Protective Security Advisors, Sector Liaisons, the National Infrastructure Coordinating Center, and other Federal officials designated by IP are authorized to submit nominations to the central PSCP point of contact, the PSCP Administrator. The clearance request form is signed by both the Federal official who nominated the applicant and by the Assistant Secretary for Infrastructure Protection prior to initiating the clearance process. Upon approval by the Assistant Secretary for Infrastructure Protection, IP Security Office will contact the nominee to obtain the Social Security number, date and place of birth, and will then enter this data into e-QIP—Office of Personnel Management's secure portal for investigation processing. Once the data is entered in e-QIP, the applicant can complete the online security questionnaire. An alternate mailing address is an optional field on the form and may be provided if the nominee chooses to have correspondences sent to a mailing address other than the company mailing address. IP Security Office maintains all applicants' information in the Master Roster, which contains all the information found on the clearance request form in addition to their clearance information (date granted, level of clearance, date non-disclosure agreements signed, and type/date of investigation). The Administrator of the Master Roster maintains the information so as to track clearance processing and investigation information and to have the most current contact information for the participants from each sector. The IP Security Office also provides the PSCP Administrator with applicant information to facilitate information sharing with Federal nominators and authorized DHS employees with a need to know.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Critical Infrastructure Private Sector Clearance Program Request.

OMB Number: 1670-0013.

Frequency: Once.

Affected Public: Designated private sector employees of critical infrastructure entities or organizations.

Number of Respondents: 500 respondents (estimate).

Estimated Time per Respondent: 10 minutes.

Total Burden Hours: 83.35.

Total Burden Cost (capital/startup): $0.

Total Recordkeeping Burden: $0.

Total Burden Cost (operating/maintaining): $0.

Dated: September 17, 2014.
Scott Libby,
Deputy Chief Information Officer, National Protection and Programs Directorate, Department of Homeland Security.

[FR Doc. 2014-22663 Filed 9-23-14; 8:45 am]

BILLING CODE 4410-10-P